DEPARTMENT OF THE INTERIOR

Bureau of Land Management

[MT-921-08-1320-EL-P; NDM 97633]

Notice of Coal Lease Application—NDM 97633—BNI Coal Limited

AGENCY: Bureau of Land Management, Department of the Interior.

ACTION: Notice.

SUMMARY: This is Notice of BNI Coal Limited Coal Lease Application NDM 97633 for certain coal resources within the Center Mine. The land included in Coal Lease Application NDM 97633 is located in Oliver County, North Dakota, and is described as follows:

T. 142 N., R. 84 W., 5th P. M.

Sec. 20: N½, SW¼;

Sec. 32: N½NW¼, SW¼NW¼, NW¼SW¼

The 640.00 acre tract contains an estimated 17.1 million tons of recoverable coal reserves.

The application will be processed in accordance with the provisions of the Mineral Leasing Act of 1920, as amended (30 U.S.C. 181, et seq.), and the implementing regulations at 43 CFR 3400. A decision to allow leasing of the coal reserves in said tract will result in a competitive lease sale to be held at a time and place to be announced through publication pursuant to 43 CFR 3422.

SUPPLEMENTARY INFORMATION: BNI Coal Limited is the lessee and operator of Coal Leases NDM 043848, NDM 62073, and NDM 95104 at the Center Mine. The entire area included within this lease application lies within the Center Mine BNCR-9702 permit area.

The area applied for would be mined as an extension of the Center Mine and would utilize the same methods as those currently being used. The lease being applied for can extend the life of the mine by about 4 years, and enable recovery of coal that might never be mined if not mined as a logical extension of current pits.

Notice of Availability: The application is available for review between the hours of 9 a.m. and 4 p.m. at the Bureau of Land Management, Montana State Office, 5001 Southgate Drive, Billings, Montana 59101, and at the Bureau of Land Management, Dakotas District Office, whose address is 2933 Third Avenue West, Dickinson, North Dakota, 58601-2619, between the hours of 8 a.m. and 4 p.m.

FOR FURTHER INFORMATION CONTACT: Rebecca Spurgin, Coal Coordinator, at telephone 406-896-5080, Bureau of Land Management, Montana State Office, 5001 Southgate Drive, Billings, Montana 59101-4669.

Dated: January 30, 2008.
Edward L. Hughes,
Acting Chief, Branch of Solid Minerals.

[FR Doc. E8-2083 Filed 2-4-08; 8:45 am]

BILLING CODE 4310-$$-P